NATIONAL SCIENCE FOUNDATION

Committee on Equal Opportunities in Science and Engineering; Notice of Meeting

In accordance with the Federal Advisory Committee Act (Pub., L. 92-463, as amended), the National Science Foundation announces the following meeting:

Name: Committee on Equal Opportunities in Science and Engineering (1173).

Dates/Time: October 26, 2009, 8:30 a.m.—5:30 p.m., October 27, 2009, 8:30 a.m.—11 a.m.

Place: National Science Foundation (NSF), 4201 Wilson Boulevard, Room 1235, Arlington, VA 22230.

To help facilitate your access into the building, please contact the individual listed below prior to the meeting so that a visitors' badge may be prepared for you in advance.

Type of Meeting: Open.

Contact Person: Dr. Margaret E.M. Tolbert, Senior Advisor and CEOSE Executive Liaison, Office of Integrative Activities/OD, National Science Foundation, 4201 Wilson Boulevard, Arlington, VA 22230 Telephone Numbers: (703) 292-4216, 703-292-8040 mtolbert@nsf.gov.

Minutes: Minutes may be obtained from the Executive Liaison at the above address or the Web site at http://www.nsf.gov/od/oia/activities/ceose/index.jsp.

Purpose of Meeting: To study programs and policies and provide to NSF advice and recommendations concerning broadening the participation of women, underrepresented minorities, and persons with disabilities in science and engineering.

Agenda

Monday, October 26, 2009

Opening Statement by the CEOSE Chair.

Presentations and Discussions:

✓ Women and Girls in the STEM Fields: A Comprehensive Approach to Achieving Equity

✓ Education in the National Science and Technology Council

✓ A Conversation with the Director of the National Science Foundation

✓ Plans for the 2009-2010 CEOSE Biennial Report to Congress

✓ The Role of the Office of Equal Opportunity Programs in Fostering a Work Environment of Diversity and Inclusion

✓ Enhancing Engineering through Broadening Experiences

✓ Charges for and Membership of the CEOSE Ad Hoc Subcommittees

Tuesday, October 27, 2009

Opening Statement by the CEOSE Chair.

Presentations and Discussions:

✓ Plans for the CEOSE Mini-Symposium on Women of Color in STEM: Perspectives on Experiences, Research, Evaluation, and Policy in Higher Education and Careers

✓ Report by CEOSE Liaisons to NSF Advisory Committees

✓ Completion of Unfinished Business

Dated: October 6, 2009.
Susanne Bolton,
Committee Management Officer.

[FR Doc. E9-24367 Filed 10-8-09; 8:45 am]

BILLING CODE 7555-01-P